DEPARTMENT OF TRANSPORTATION

Federal Motor Carrier Safety Administration

[Docket No. FMCSA-2008-0362]

Medical Review Board (MRB) Meeting: Public Meeting

AGENCY: Federal Motor Carrier Safety Administration (FMCSA), DOT.

ACTION: Notice of public meeting.

SUMMARY: FMCSA announces a meeting of its Medical Review Board (MRB).

DATES: The meeting will be held on Monday and Tuesday, July 15-16, 2019, from 9:15 a.m. to 4:30 p.m., Eastern Daylight Time.

ADDRESSES: The meeting will be held at the FMCSA National Training Center, 1310 N Courthouse Road, Arlington, VA, 6th Floor. Copies of the task statement and an agenda for the entire meeting will be made available in advance of the meeting at www.fmcsa.dot.gov/mrb.

FOR FURTHER INFORMATION CONTACT: Ms. Shannon L. Watson, Senior Advisor to the Associate Administrator for Policy, Federal Motor Carrier Safety Administration, U.S. Department of Transportation, 1200 New Jersey Avenue SE, Washington, DC 20590, (202) 366-5221, mrb@dot.gov.

SUPPLEMENTARY INFORMATION:

I. Background

Section 4116(a) of the Safe, Accountable, Flexible, Efficient Transportation Equity Act: A Legacy for Users (codified at 49 U.S.C. 31149) requires the Secretary of Transportation to establish a 5-member MRB to provide FMCSA with medical advice and recommendations on medical standards and guidelines for the physical qualifications of operators of commercial motor vehicles (CMV), medical examiner education, and medical research. The MRB was established in 2005 by charter, which is renewable every 2 years. The current charter expires on November 27, 2019.

II. Agenda Summary

During the meeting, the MRB will revisit its July 2018 recommendations on revising the FMCSA Medical Examiners Handbook and discuss how to best provide educational materials on pharmacology to certified medical examiners. The MRB will also review a recently completed study assessing the safety performance of commercial motor vehicle drivers operating under the conditions of the Agency's vision exemption program.

III. Meeting Participation

Oral comments from the public will be heard during the meeting, at the discretion of the MRB Chairman. Members of the public may submit written comments to the docket on the topics to be considered during the meeting by Monday, July 8, 2019, using Docket Number FMCSA-2005-20105 by any of the following methods:

• Federal eRulemaking Portal: Go to http://www.regulations.gov. Follow the online instructions for submitting comments.

• Fax: 202-493-2251.

• Mail: Docket Management Facility; U.S. Department of Transportation, 1200 New Jersey Avenue SE, West Building, Room W12-140, Washington, DC 20590.

• Hand Delivery: U.S. Department of Transportation, 1200 New Jersey Avenue SE, Room W12-140, Washington, DC, between 9 a.m. and 5 p.m., Monday through Friday, except Federal holidays.

FMCSA is committed to providing equal access to this meeting for all participants. If you need alternative formats or services because of a disability, please contact Ms. Shannon L. Watson by phone at (202) 366-5221 or by email at mrb@dot.gov by Monday, July 8, 2019.

Issued on: May 15, 2019.
Larry W. Minor,
Associate Administrator for Policy.

[FR Doc. 2019-10709 Filed 5-21-19; 8:45 am]

BILLING CODE 4910-EX-P